DEPARTMENT OF VETERANS AFFAIRS

Advisory Committee on Homeless Veterans; Notice of Meeting

The Department of Veterans Affairs (VA) gives notice under Public Law 92-463 (Federal Advisory Committee Act) that a meeting of the Advisory Committee on Homeless Veterans will be held from Wednesday, May 7, 2003, through Thursday, May 8, 2003, at the Wyndham City Center Hotel, 1143 New Hampshire Avenue, NW., Dupont Room, Washington, DC 20037. The meeting sessions are scheduled from 2 p.m. until 4:30 p.m. on May 7 and from 8:30 until 4 p.m. on May 8. The meeting is open to the public.

The purpose of the Committee is to advise the Secretary of Veterans Affairs with an on-going assessment of the effectiveness of the policies, organizational structures, and services of the Department in assisting homeless veterans. The Committee shall assemble and review information relating to the needs of homeless veterans and provide on-going advice on the most appropriate means of providing assistance to homeless veterans. The Committee will make recommendations to the Secretary regarding such activities.

On May 7, the Committee will visit the Access Housing—Southeast Veterans Service Center, 820 Chesapeake Street, SE., Washington, DC. On May 8, the Committee will review information about efforts to coordinate services and increase veterans access to homeless services from VA and other health and benefits programs and review new draft recommendations to assist veterans.

Those wishing to attend the meeting should contact Mr. Peter Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: April 14, 2003.
By Direction of the Secretary.
E. Phillip Riggin,
Committee Management Officer.

[FR Doc. 03-9823 Filed 4-21-03; 8:45 am]

BILLING CODE 8320-01-M